DEPARTMENT OF ENERGY

Federal Energy Regulatory Commission

[Project No. 2232-480-NC]

Duke Power; A Division of Duke Energy Corporation; Notice of Availability of Environmental Assessment

May 23, 2006.

In accordance with the National Environmental Policy Act of 1969 and the Federal Energy Regulatory Commission's (Commission) regulations, 18 CFR part 380 (Order No. 486, 52 FR 47897), the Office of Energy Projects has reviewed an application for non-project use of project lands and waters at the Catawba-Wateree Project (FERC No. 2232), and has prepared an environmental assessment (EA) for the proposed non-project use. The project is located on Lake Wylie in Mecklenburg County, North Carolina.

In the application, Duke Power (licensee) requests Commission authorization to lease to The Sanctuary at Lake Wylie, LLC and The Sanctuary Property Owners Association (The Sanctuary) 0.461 acre of project land for a commercial residential marina. The Sanctuary proposes to construct one cluster dock with ten boat slips and a covered fishing pier located adjacent to the cluster dock, an irrigation intake structure, and install 20,000 feet of shoreline stabilization. The EA contains Commission staff's analysis of the probable environmental impacts of the proposal and concludes that approving the licensee's application, with staff's recommended environmental measures, would not constitute a major Federal action significantly affecting the quality of the human environment.

A copy of the EA is attached to a Commission order titled “Order Modifying and Approving Non-Project Use of Project Lands and Waters”, issued May 23, 2006. The EA is available for review and reproduction at the Commission's Public Reference Room, located at 888 First Street, NE., Room 2A, Washington, DC 20426. The EA may also be viewed on the Commission's Web site at http://www.ferc.gov using the “elibrary” link. Enter the dock number (prefaced by P-2232) and excluding the last three digits, in the docket number field to access the document. For assistance, contact FERC Online Support at FERCOnlineSupport@ferc.gov or toll-free at (866) 208-3676, or for TTY, contact (202) 502-8659.

Magalie R. Salas,
Secretary.

[FR Doc. E6-8329 Filed 5-30-06; 8:45 am]

BILLING CODE 6717-01-P